NATIONAL TRANSPORTATION SAFETY BOARD

Sunshine Act Meeting

Time and Place: 9:30 a.m., Tuesday, December 17, 2002.

Place: NTSB Conference Center, 429 L'Enfant Plaza SW., Washington, DC 20594.

Status: The two items are Open to the Public.

Matters to be Considered:

7454A—Marine Accident Report—Collision Between the U.S. Coast Guard Patrol Boat CG242513 and the U.S. Small Passenger Vessel Bayside Blaster, Biscayne Bay, Miami, Florida, January 12, 2002.

7513—Highway Accident Brief—Motorcoach run-off-the-road, near Canon City, Colorado, on December 21, 1999.

New Media Contact: Telephone: (202) 314-6100.

Individuals requesting specific accommodations should contact Ms. Carolyn Dargan at (202) 314-6305 by Friday, December 13, 2002.

FOR MORE INFORMATION CONTACT: Vicky D'Onofrio, (202) 314-6410.

Dated: December 6, 2002.
Vicky D'Onofrio,
Federal Register Liaison Officer.

[FR Doc. 02-31230 Filed 12-6-02; 2:07 pm]

BILLING CODE 7533-01-M